COMMITTEE FOR THE IMPLEMENTATION OF TEXTILE AGREEMENTS

Denial of Commercial Availability Request under the United States-Caribbean Basin Trade Partnership Act (CBTPA)

June 1, 2005.

AGENCY: The Committee for the Implementation of Textile Agreements (CITA).

ACTION: Denial of the request alleging that certain coat weight fabrics of 100 percent carded camel hair, 100 percent carded cashmere, or a blend of carded cashmere and wool fibers cannot be supplied by the domestic industry in commercial quantities in a timely manner under the CBTPA.

SUMMARY: On March 30, 2005 the Chairman of CITA received a petition from Neville Peterson, LLP, on behalf of S. Rothschild & Co., Inc. of New York, New York, alleging that certain coat weight fabrics of 100 percent carded camel hair, 100 percent carded cashmere, or a blend of carded cashmere and wool fibers, classified in subheading 5111.19.6020 of the Harmonized Tariff Schedule of the United States (HTSUS), cannot be supplied by the domestic industry in commercial quantities in a timely manner. The petition requested that outerwear articles of such fabrics be eligible for preferential treatment under the U.S. - Caribbean Basin Trade Partnership Act (CBTPA). CITA has determined that the subject fabrics can be supplied by the domestic industry in commercial quantities in a timely manner and, therefore, denies the request.

FOR FURTHER INFORMATION CONTACT: Janet E. Heinzen, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001; Presidential Proclamations 7351 of October 2, 2000.

BACKGROUND: The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271), CITA has been delegated the authority to determine whether yarns or fabrics cannot be supplied by the domestic industry in commercial quantities in a timely manner under the CBTPA. On March 6, 2001, CITA published procedures that it will follow in considering requests (66 FR 13502).

On March 30, 2005 the Chairman of CITA received a petition from Neville Peterson, LLP, on behalf of S. Rothschild & Co., Inc. of New York, New York, alleging that certain coat weight fabrics of 100 percent carded camel hair, 100 percent carded cashmere, or a blend of carded cashmere and wool fibers classified in HTSUS subheading 5111.19.6020, cannot be supplied by the domestic industry in commercial quantities in a timely manner. The petition requested that outerwear articles of such fabrics be eligible for preferential treatment under the U.S. - Caribbean Basin Trade Partnership Act (CBTPA).

On April 12, 2005, CITA published a Federal Register notice requesting public comments on the request, particularly with respect to whether these fabrics can be supplied by the domestic industry in commercial quantities in a timely manner. See Request for Public Comments on Commercial Availability Petition under the United States - Caribbean Basin Trade Partnership Act (CBTPA), 70 FR 19059 (April 12, 2005). On April 28, 2005, CITA and USTR offered to hold consultations with the House Ways and Means Committee and the Senate Finance Committee, but no consultations were requested. We also requested advice from the U.S. International Trade Commission and the relevant Industry Trade Advisory Committees.

Based on the information received by CITA, public comments, and the report from the International Trade Commission, CITA found that there is domestic capacity and ability to supply the subject fabrics in commercial quantities in a timely manner. In addition, CITA found there is domestic production of fabrics that appear substitutable for the subject fabrics for purposes of the intended use.

On the basis of currently available information and our review of this request, CITA has determined that there is domestic capacity to supply the subject fabrics in commercial quantities in a timely manner. The request from S. Rothschild & Co., Inc. is denied.

D. Michael Hutchinson,
Acting Chairman, Committee for the Implementation of Textile Agreements.

[FR Doc.05-11173 Filed 6-3-05; 8:45 am]

BILLING CODE 3510-DS-S